DEPARTMENT OF COMMERCE

National Oceanic and Atmospheric Administration

RIN 0648-XA323

Magnuson-Stevens Act Provisions; Fisheries of the Northeastern United States; Northeast Multispecies Fishery; Approved Sector Monitoring Service Providers

AGENCY: National Marine Fisheries Service (NMFS), National Oceanic and Atmospheric Administration (NOAA), Commerce.

ACTION: Notification of NMFS-approved sector monitoring service providers.

SUMMARY: This notice announces that the Administrator, Northeast Region, NMFS (Regional Administrator) has approved five service providers who applied as eligible to provide dockside and/or at-sea monitoring services to Northeast (NE) multispecies sectors in FY 2011. Amendment 16 to the NE Multispecies Fishery Management Plan (FMP) expanded sector management in the NE multispecies fishery, including a requirement for independent, third-party dockside and at-sea monitoring of sector trips beginning in fishing years (FY) 2010 and 2012, respectively; however, sectors could elect to have an at-sea monitoring program starting in FY 2010. Regulations implementing Amendment 16 require such third-party monitoring service providers to apply to, and be approved by, NMFS in a manner consistent with the Administrative Procedure Act in order to be eligible to provide dockside and/or at-sea monitoring services to sectors. The regulations specify application requirements and criteria for the approval of service providers, which potential providers must demonstrate their compliance with as part of an application for approval by NMFS. Consistent with these regulatory requirements, the Regional Administrator received and reviewed applications from five monitoring service providers for approval to provide dockside and/or at-sea monitoring services to NE multispecies sectors in FY 2011.

ADDRESSES: Copies of the list of NMFS-approved sector monitoring service providers are available at http://www.nero.noaa.gov/sfd/sfdmultisector.html or by sending a written request to:

• Fax: (978) 281-9135, Attn: Mark Grant.

• Mail: 55 Great Republic Drive, Gloucester, MA 01930, Attn: Mark Grant.

For service provider contact information, see the SUPPLEMENTARY INFORMATION section of this notice.

FOR FURTHER INFORMATION CONTACT: Mark Grant, Sector Policy Analyst, (978) 281-9145, fax (978) 281-9135, e-mail Mark.Grant@NOAA.gov.

SUPPLEMENTARY INFORMATION: Amendment 16 to the FMP expanded the sector management program, including adding a requirement to ensure accurate monitoring of sector catch at sea and landings dockside. The regulations implementing Amendment 16 required (75 FR 18262; April 9, 2010) dockside monitoring (DSM) of a minimum of 50 percent of all sector trips in FY 2010 and a minimum of 20 percent of sector trips in FY 2011. Sector vessels were also required to have a sector-funded at-sea monitoring program in place by FY 2012. Framework Adjustment 45 (FW 45) to the FMP, which is expected to be effective May 1, 2011, revises several DSM requirements. Proposed changes to the DSM program in FW 45 would include an increase in the DSM coverage level for FY 2011 and a requirement for dockside monitors to board vessels after offload to verify that all catch has been offloaded.

Regulations at 50 CFR 648.87(b)(4) describe the criteria for the approval of service providers interested in offering dockside and/or at-sea monitoring services to sectors. These include informational requirements that providers must include in applications for approval to NMFS. Additionally, once approved, service providers must be able to document having met performance requirements specified by the regulations (§ 648.87(b)(4)(ii)) during the FY, including required coverage levels, in order to maintain eligibility. NMFS can disapprove any previously approved service provider at anytime during the FY through notice in writing to the individual service provider if the service provider ceases to meet the performance standards. NMFS approved service providers for FY 2010 based upon the completeness of their application addressing the information requirements specified in the regulations (§ 648.87(b)(4)(i)), and a determination of the applicant's ability to perform the duties and responsibilities of a sector monitoring service provider.

To approve service providers for FY 2011 (beginning May 1, 2011), NMFS specified that FY 2011 applications from approved FY 2010 service providers must demonstrate that the regulatory performance requirements had been met for the first two quarters of FY 2010 (through October 31, 2010), in addition to providing the minimum informational requirements. NMFS received complete applications from two service providers intending to provide dockside and/or at-sea monitoring services to sectors in FY 2011, two service providers intending to provide only dockside monitoring services, and one service provider intending to provide only at-sea monitoring services. All five of these providers were previously approved and provided dockside and/or at-sea monitoring services to sectors in FY 2010. Based on the information provided by the FY 2011 applications, the Regional Administrator has approved the following service providers as eligible to provide dockside monitoring services to sectors in FY 2011:

• A.I.S., Inc., 89 North Water Street, New Bedford, MA 02747, phone 508-990-9054, fax 508-990-9055, Web site http://www.aisobservers.com.

• MRAG Americas, 65 Eastern Ave., Unit B2C, Essex, MA 01929, phone 978-768-3880, fax 978-768-3878, Web site http://www.mragamericas.com.

• Saltwater Inc., 733 N. Street, Anchorage, AK 99501, phone 907-276-3241, fax 907-258-5999, Web site http://www.saltwaterinc.com.

• Atlantic Catch Data Ltd., 99 Wyse Road, Suite 815, Dartmouth, Nova Scotia, CANADA B3A 4S5, phone 1-902-422-4745, fax 1-902-422-9780, website http://www.atlanticcatchdata.ca.

The Regional Administrator has approved the following service providers as eligible to provide at-sea monitoring services to sectors in FY 2011:

• A.I.S., Inc.

• MRAG Americas

• East West Technical Services, LLC, 34 Batterson Drive, New Britain, CT 06053, phone 860-223-5165, fax 860-223-6005, Web site http://www.ewts.com.

Authority: 16 U.S.C. 1801 et seq.

Dated: April 13, 2011.
Margo Schulze-Haugen,
Acting Director, Office of Sustainable Fisheries, National Marine Fisheries Service.

[FR Doc. 2011-9458 Filed 4-18-11; 8:45 am]

BILLING CODE 3510-22-P